DEPARTMENT OF TRANSPORTATION

Federal Aviation Administration

14 CFR Part 39

[Docket No. FAA-2005-22701; Directorate Identifier 2005-NE-37-AD; Amendment 39-14356; AD 2005-22-12]

RIN 2120-AA64

Airworthiness Directives; General Electric Company CF6-80E1 Series Turbofan Engines

AGENCY: Federal Aviation Administration (FAA), Department of Transportation (DOT).

ACTION: Final rule; request for comments.

SUMMARY: The FAA is adopting a new airworthiness directive (AD) for General Electric Company (GE) CF6-80E1 series turbofan engines installed on Airbus Industrie A330 series airplanes. This AD requires a check of the holding torque of the thrust reverser actuation system (TRAS) locks, and if necessary a visual inspection of the TRAS lock flexible drive shafts, within 10 flight cycles after all aborted takeoffs in which the thrust reverser was deployed. This AD results from reports of operators finding several damaged TRAS lock flexible drive shafts during inspections and checks of the drive shafts. We are issuing this AD to prevent inadvertent in-flight deployment of the thrust reverser, which can result in loss of control of the airplane.

DATES: This AD becomes effective December 2, 2005.

We must receive any comments on this AD by January 3, 2006.

ADDRESSES: Use one of the following addresses to comment on this AD:

• DOT Docket web site: Go to http://dms.dot.gov and follow the instructions for sending your comments electronically.

• Government-wide rulemaking web site: Go to http://www.regulations.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

Contact Middle River Aircraft Systems, Mail Point 46, 103 Chesapeake Park Plaza, Baltimore, MD, 21220-4295, attn: Warranty Support, telephone: (410) 682-0094, fax: (410) 682-0100 for the alert service bulletin identified in this AD. Contact General Electric Company via Lockheed Martin Technology Services, 10525 Chester Road, Suite C, Cincinnati, Ohio 45215, telephone (513) 672-8400, fax (513) 672-8422, for the temporary revision identified in this AD. Contact Airbus, 1 Rond Point Maurice Bellionte, 31707 Blagnac Cedex, France, for the Airbus A330 manual information identified in this AD.

FOR FURTHER INFORMATION CONTACT: Karen Curtis, Aerospace Engineer, Engine Certification Office, FAA, Engine and Propeller Directorate, 12 New England Executive Office Park; telephone (781) 238-7192; fax (781) 238-7199.

SUPPLEMENTARY INFORMATION: The FAA issued AD 2002-10-08 (67 FR 36090, May 23, 2002) on May 9, 2002. That AD requires initial and repetitive thrust reverser inspections and checks. That AD resulted from reports of service-induced hardware deterioration that reduces the overall thrust reverser system protection against inadvertent deployment, which can result in loss of control of the airplane. Since we issued that AD, we received reports of operators finding several damaged TRAS lock flexible drive shafts. The operators found these damaged shafts while complying with the torque check specified in AD 2002-10-08. Investigation and analysis by GE and the FAA revealed that high end-of-stroke impact caused the damage. End-of-stroke impact is highest when the thrust reverser is commanded to deploy during an aborted take-off. The TRAS lock flexible drive shaft attaches the upper end actuator to the TRAS lock. When the system is commanded to deploy, the TRAS lock rotates to allow movement of the thrust reverser. At the end of the deployment stroke, the actuation system end-actuator hits its hard stop, while the TRAS lock continues to rotate. The TRAS lock then transmits its rotating inertia to the TRAS lock flexible drive shafts. This transmission of inertia can cause twisting, shearing, or bird caging of the drive shafts, leading to loss of the holding torque in the TRAS lock. Loss of holding torque reduces the effectiveness of the lock and if not corrected, can increase the probability of an in-flight inadvertent deployment of the thrust reverser, which can result in loss of control of the airplane.

FAA's Determination and Requirements of This AD

Although this affected engine model is not used on any airplanes that are registered in the United States, the possibility exists that this engine model could be used on airplanes registered in the United States in the future. We are issuing this AD to prevent inadvertent in-flight deployment of the thrust reverser, which can result in loss of control of the airplane. This AD requires performing a check of the holding torque of the TRAS locks, and if necessary a visual inspection of the TRAS lock flexible drive shafts, within 10 flight cycles after all aborted takeoffs in which the thrust reverser was deployed. This AD also requires replacing any damaged flexible drive shafts or locks.

FAA's Determination of the Effective Date

Since there are currently no domestic operators of this engine model, notice and opportunity for public comment before issuing this AD are unnecessary. A situation exists that allows the immediate adoption of this regulation.

Comments Invited

This AD is a final rule that involves requirements affecting flight safety and was not preceded by notice and an opportunity for public comment; however, we invite you to send us any written relevant data, views, or arguments regarding this AD. Send your comments to an address listed under ADDRESSES. Include “AD Docket No. FAA-2005-22701; Directorate Identifier 2005-NE-37-AD” in the subject line of your comments. We specifically invite comments on the overall regulatory, economic, environmental, and energy aspects of the rule that might suggest a need to modify it.

We will post all comments we receive, without change, to http://dms.dot.gov, including any personal information you provide. We will also post a report summarizing each substantive verbal contact with FAA personnel concerning this AD. Using the search function of the DMS web site, anyone can find and read the comments in any of our dockets, including the name of the individual who sent the comment (or signed the comment on behalf of an association, business, labor union, etc.). You may review the DOT's complete Privacy Act Statement in the Federal Register published on April 11, 2000 (65 FR 19477-78) or you may visit http://dms.dot.gov.

Examining the AD Docket

You may examine the docket that contains the AD, any comments received, and any final disposition in person at the Docket Management Facility Docket Offices between 9 a.m. and 5 p.m., Monday through Friday, except Federal holidays. The Docket Office (telephone (800) 647-5227) is located on the plaza level of the Department of Transportation Nassif Building at the street address stated in ADDRESSES. Comments will be available in the AD docket shortly after the DMS receives them.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary at the address listed under ADDRESSES.

List of Subjects in 14 CFR Part 39

Air transportation, Aircraft, Aviation safety, Safety.

Adoption of the Amendment

Under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2005-22-12 General Electric Company: Amendment 39-14356. Docket No. FAA-2005-22701; Directorate Identifier 2005-NE-37-AD.

Effective Date

(a) This airworthiness directive (AD) becomes effective December 2, 2005.

Affected ADs

(b) None.

Applicability

(c) This AD applies to General Electric Company (GE) CF6-80E1 series turbofan engines. These engines are installed on, but not limited to, Airbus Industrie A330 series airplanes.

Unsafe Condition

(d) This AD results from reports of operators finding several damaged thrust reverser actuation system (TRAS) lock flexible drive shafts during inspections and checks of the drive shafts. We are issuing this AD to prevent inadvertent in-flight deployment of the thrust reverser, which can result in loss of control of the airplane.

Compliance

(e) You are responsible for having the actions required by this AD performed within the compliance times specified unless the actions have already been done.

(f) Within 10 flight cycles after all aborted takeoffs in which the thrust reverser was deployed, do the following:

(1) Perform a check of the holding torque of the TRAS locks.

(2) Based on the results of the holding torque check, perform a visual inspection of the TRAS lock flexible drive shafts if necessary.

(3) Replace any damaged flexible drive shafts or locks.

(g) Information on performing a check of the holding torque of the TRAS locks, and a visual inspection of the TRAS lock flexible drive shafts, can be found in the Airbus A330 Aircraft Maintenance Manual, Task 72-00-00-200-850.

Alternative Methods of Compliance

(h) The Manager, Engine Certification Office, has the authority to approve alternative methods of compliance for this AD if requested using the procedures found in 14 CFR 39.19.

Related Information

(i) Middle River Aircraft Systems Alert Service Bulletin No. CF6-80E1 S/B 78A5097, dated June 14, 2005, and General Electric CF6-80E1 Series Engine Manual Temporary Revision No. 05-0049, dated August 24, 2005, pertain to the subject of this AD.

Issued in Burlington, Massachusetts, on October 27, 2005.
Peter A. White,
Acting Manager, Engine and Propeller Directorate, Aircraft Certification Service.

[FR Doc. 05-21805 Filed 11-1-05; 8:45 am]

BILLING CODE 4910-13-P